FEDERAL COMMUNICATIONS COMMISSION

47 CFR Chapter I

Notification of Open Commission Meeting

AGENCY: Federal Communications Commission.

ACTION: Notification of public meeting.

SUMMARY: The Federal Communications Commission will hold an Open Meeting on the subjects listed below in SUPPLEMENTARY INFORMATION on Thursday, May 10, 2018.

DATES: The meeting will take place on Thursday, May 10, 2018, and is scheduled to commence at 10:30 a.m..

ADDRESSES: The location of the meeting is Room TW-C305, at 445 12th Street SW, Washington, DC.

Audio/Video coverage of the meeting will be broadcast live with open captioning over the internet from the FCC Live web page at www.fcc.gov/live. For a fee this meeting can be viewed live over George Mason University's Capitol Connection. The Capitol Connection also will carry the meeting live via the internet. To purchase these services, call (703) 993-3100 or go to www.capitolconnection.gmu.edu.

FOR FURTHER INFORMATION CONTACT: Additional information concerning this meeting may be obtained from the Office of Media Relations, (202) 418-0500; TTY 1-888-835-5322. Contact Marlene Dortch, 202 418-0330 for information about this document.

SUPPLEMENTARY INFORMATION:

Item No. | Bureau | Subject
1 | Enforcement | Title: Enforcement Bureau Action.
|  | Summary: The Commission will consider an enforcement action.
2 | Wireless Tele-Communications | Title: Amendment of Parts 1, 21, 73, 74 and 101 of the Commission's Rules to Facilitate the Provision of Fixed and Mobile Broadband Access, Educational and Other Advanced Services in the 2150-2162 and 2500-2690 MHz Bands; Transforming the 2.5 GHz Band (WT Docket No. 18-120).
|  | Summary: The Commission will consider a Notice of Proposed Rulemaking that would allow more efficient and effective use of 2.5 GHz spectrum by seeking input on increasing flexibility for existing Educational Broadband Service (EBS) licensees and providing new opportunities for educational entities, rural Tribal Nations, and commercial entities to access unused portions of the band.
3 | Media | Title: Amendment of Part 74 of the Commission's Rules Regarding FM Translator Interference (MB Docket No. 18-119).
|  | Summary: The Commission will consider a Notice of Proposed Rulemaking which proposes to streamline the rules relating to interference caused by FM translators and expedite the translator complaint resolution process.
4 | Media | Title: Amendment of Parts 0, 1, 5, 73, and 74 of the Commission's Rules Regarding Posting of Station Licenses and Related Information (MB Docket No. 18-121); Modernization of Media Regulation Initiative (MB Docket No. 17-105).
|  | Summary: The Commission will consider a Notice of Proposed Rulemaking seeking comment on whether to streamline or eliminate certain rules which require the physical posting and maintenance of broadcast licenses and related information in specific locations.
5 | Media | Title: Hearing Designation Order.
|  | Summary: The Commission will consider a Hearing Designation Order.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Federal Communications Commission.
Marlene Dortch,
Secretary.

[FR Doc. 2018-09973 Filed 5-9-18; 8:45 am]

BILLING CODE 6712-01-P